DEPARTMENT OF TRANSPORTATION

Coast Guard

33 CFR Part 117

[CGD08-03-005]

RIN 2115-AE47

Drawbridge Operating Regulations; Falgout Canal, Terrebonne Parish, LA

AGENCY: Coast Guard, DOT.

ACTION: Notice of temporary deviation from regulations.

SUMMARY: The Commander, Eighth Coast Guard District has issued a temporary deviation from the regulation governing the operation of the SR 315 drawbridge across the Falgout Canal, mile 3.1, in Terrebonne Parish, Louisiana. This deviation allows the bridge to remain in the closed-to-navigation position for fifty-six hours from March 18 to March 20, 2003. The deviation is necessary to conduct maintenance to the drawbridge.

DATES: This deviation is effective from 8 a.m. on Wednesday, March 18, 2003, until 4 p.m. on Thursday, March 20, 2003.

ADDRESSES: Unless otherwise indicated, documents referred to in this notice are available for inspection or copying at the office of the Eighth Coast Guard District, Bridge Administration Branch, Commander (obc), 501 Magazine Street, New Orleans, Louisiana, 70130-3396 between 7 a.m. and 3 p.m., Monday through Friday, except Federal holidays. The Bridge Administration Branch maintains the public docket for this temporary deviation.

FOR FURTHER INFORMATION CONTACT: David Frank, Bridge Administration Branch, telephone (504) 589-2965.

SUPPLEMENTARY INFORMATION: The Louisiana Department of Transportation and Development has requested a temporary deviation from 33 CFR 117.444 in order to replace a defective main pivot pier bearing housing. This deviation allows the draw of the SR 315 drawbridge to remain closed to navigation from 8 a.m. on Tuesday, March 18, 2003 until 4 p.m. on Thursday, March 20, 2003.

The bridge has a vertical clearance of 3.5 feet above mean high water in the closed-to-navigation position and unlimited in the open-to-navigation position. In accordance with 33 CFR 117.444, the draw is required to open on signal; except that, from 15 August to 5 June, the draw need not be opened from 7 a.m. to 8 a.m. and from 3 p.m. to 4 p.m., Monday through Friday except holidays. The draw shall open on signal at any time for an emergency aboard a vessel.

During the closure period, the bridge will not be able to open for the passage of vessels. No alternate routes are available; however, the bridge owner will attempt to contact all waterway users to keep them abreast of the repair work. Navigation on the waterway consists of small tugs with tows, fishing vessels, and other recreational craft. The bridge opens an average of 426 times per month for the passage of vessels.

In accordance with 33 CFR 117.35(c), this work will be performed with all due speed in order to return the bridge to normal operation as soon as possible. This deviation from the operating regulations is authorized under 33 CFR 117.35.

Dated: February 19, 2003.
Marcus Redford,
Bridge Administrator.

[FR Doc. 03-4757 Filed 2-27-03; 8:45 am]

BILLING CODE 4910-15-P